DEPARTMENT OF JUSTICE

Federal Bureau of Investigation

Meeting of the Compact Council for the National Crime Prevention and Privacy Compact

AGENCY: Federal Bureau of Investigation, Justice.

ACTION: Meeting Notice.

SUMMARY: The purpose of this notice is to announce a meeting of the Compact Council for the National Crime Prevention and Privacy Compact Act of 1998 (Compact). Thus far, the federal government and 13 states are parties to the Compact which governs the exchange of criminal history records for licensing, employment, and similar purposes. The Compact also provides a legal framework for the establishment of a cooperative Federal-state system to exchange such records.

An election for the Compact Council Chair and Vice-Chair positions will be conducted at the meeting as the first order of business. General discussion and information presented will be restricted to the following agenda items:

(1.) The Rule Making Process.

(2.) Applicability of Council Rules, Procedures, or Standards.

(3.) Proposed Changes to Code of Federal Regulations Title 28, Part 20.

(4.) Emergency Responses to Natural Disasters.

(5.) Council Goals/Objectives and Work Plan.

(6) Status Report on Legislative Amendments to the Volunteers for Children's Act.

(7.) FBI Status Report on Name Checks for Applicant Fingerprints Rejected due to Illegibility.

(8.) FBI Status Report on Readiness to Respond to National Fingerprint File Participation.

The meeting will be open to the public on a first-come, first-seated basis. Any member of the public wishing to file a written statement with the Compact Council or wishing to address the agenda items listed above at this session of the Compact Council should notify Ms. Cathy L. Morrison at (304) 625-2736, at least 24 hours prior to the start of the session. The notification should contain the requestor's name and corporate designation, consumer affiliation, or government designation, along with a short statement describing the topic to be addressed, and the time needed for the presentation. Requestors will ordinarily be allowed up to 15 minutes to present a topic. The Council chairman, at his discretion may grant such request.

DATES AND TIMES: The Compact Council will meet in open session from 9 a.m. until 5 p.m. on November 14, 2001.

ADDRESSES: The meeting will take place at the Grand Hyatt Washington, 1000 H Street, NW, Washington, DC, telephone (202) 582-1234.

FOR FURTHER INFORMATION CONTACT: Inquiries may be addressed to Ms. Cathy L. Morrison, Interim Compact Officer, Programs Development Section, CJIS Division, FBI, 1000 Custer Hollow Road, Clarksburg, West Virginia 26306-0147, telephone (304) 625-2736, facsimile (304) 625-5388.

Dated: October 3, 2001.
Thomas E. Bush, III,
Section Chief, Program Development Section, Federal Bureau of Investigation.

[FR Doc. 01-25349 Filed 10-9-01; 8:45 am]

BILLING CODE 4410-02-M